INTERNATIONAL TRADE COMMISSION

Sunshine Act Meeting

AGENCY HOLDING THE MEETING: United States International Trade Commission.

TIME AND DATE: July 11, 2000 at 2 p.m.

PLACE: Room 101, 500 E Street S.W., Washington, DC 20436, Telephone: (202) 205-2000.

STATUS: Open to the public.

MATTERS TO BE CONSIDERED:

1. Agenda for future meeting: none.

2. Minutes.

3. Ratification List.

4. Inv. No. TA-201-71 (Crabmeat from Swimming Crabs)(Injury Phase)—briefing and vote. (The Commission will transmit its recommendations to the President on August 29, 2000.)

5. Outstanding action jackets: none.

In accordance with Commission policy, subject matter listed above, not disposed of at the scheduled meeting, may be carried over to the agenda of the following meeting.

Issued: June 29, 2000.
By order of the Commission
Donna R. Koehnke,
Secretary.

[FR Doc. 00-17041 Filed 6-30-00; 12:58 pm]

BILLING CODE 7020-02-P